DEPARTMENT OF THE INTERIOR

Fish and Wildlife Service

[FWS-R6-R-2013-N223; FXRS1266066CCP0S3-134-FF06R06000]

Benton Lake National Wildlife Refuge Complex, Great Falls, Montana; Final Comprehensive Conservation Plan and Finding of No Significant Impact for Environmental Assessment

AGENCY: Fish and Wildlife Service, Interior.

ACTION: Notice of availability.

SUMMARY: We, the U.S. Fish and Wildlife Service (Service), announce the availability of a final comprehensive conservation plan (CCP) and finding of no significant impact (FONSI) for the environmental assessment (EA) for Benton Lake National Wildlife Refuge Complex. In this final CCP, we describe how we intend to manage the refuge complex for the next 15 years.

ADDRESSES: You will find the final CCP and the FONSI on the planning Web site: http://www.fws.gov/mountain-prairie/planning/ccp/mt/bnl/bnl.html. A limited number of hard copies are available. You may request one by any of the following methods:

Email: toni_griffin@fws.gov. Include “Benton Lake NWR Complex” in the subject line of the message.

Fax: Attn: Toni Griffin, Planning Team Leader, 303-236-4792.

U.S. Mail: Toni Griffin, Planning Team Leader, Suite 300, 134 Union Boulevard, Lakewood, CO 80228.

FOR FURTHER INFORMATION CONTACT: Toni Griffin, 303-236-4378 (phone); 303-236-4792 (fax); or toni_griffin@fws.gov (email).

SUPPLEMENTARY INFORMATION:

Introduction

With this notice, we continue the CCP process for Benton Lake National Wildlife Refuge Complex, which we began by publishing a notice of intent in the Federal Register (73 FR 48237) on August 18, 2008. For more about the initial process and the history of this refuge, see that notice. We released the draft CCP and EA to the public, announcing and requesting comments in a notice of availability (77 FR 19309) on March 30, 2012. The 60-day comment period ended on June 1, 2012. A summary of public comments and the agency responses is included in the final CCP.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

The final CCP may be found at http://www.fws.gov/mountain-prairie/planning/ccp/mt/bnl/bnl.html. The final CCP includes detailed information about the planning process, refuge, issues, and management alternative selected. The Web site also contains the draft CCP, which includes an EA, prepared in accordance with the National Environmental Policy Act (NEPA) (43 U.S.C. 4321 et seq.). The EA/FONSI includes discussion of alternative refuge management options. The Service's selected alternative is reflected in the final CCP.

The selected alternative for the complex focuses on achieving self-sustaining systems with long-term productivity. Management efforts would focus on supporting and restoring ecological processes, including natural communities and the dynamics of the ecosystems of the northern Great Plains and northern Rocky Mountains in relationship to their geomorphic landscape positioning. Conservation of native landscapes would be a high priority, accomplished by protecting habitats from conversion, using a combination of partnerships, easements, and fee-title lands, and through active management and proactive enforcement of easements. Management actions such as prescribed fire, grazing, and invasive species control would be used to support the resiliency and sustainability of Service-owned lands throughout the refuge complex. Whenever possible, habitat conditions would be allowed to fluctuate with climatically driven wet and dry cycles, which are essential for long-term productivity. The success of these efforts and programs would depend on added staff, research, and monitoring programs, operations money, infrastructure, and new and expanded partnerships.

Benton Lake Refuge wetland units will be managed to focus on the importance of restoring the health and long-term sustainability of the wetland basin and include efforts within the Lake Creek and Muddy Creek watersheds. Flexible water management will occur, which will affect the amount, duration, and location of artificially provided water (pumped water) within the wetland basin. Management will strive to provide some waterfowl hunting and fall/spring migration habitat for at least 11 out of 15 years, and basin-wide drawdowns will occur no more than 4 out of 15 years (with no more than 3 consecutive years of basin-wide drying). An adaptive resource management approach will be applied that may modify these wet and dry cycles to ensure progress towards achieving habitat objectives. Wetland basin infrastructure may be modified to enhance water conservation and efficient delivery. The Pumphouse and all water rights will be regularly exercised and maintained. Managing grasslands and other wildlife dependent public uses (wildlife observation and photography, environmental education and interpretation, and upland game bird hunting) on the refuge will occur as resources allow. A detailed description of objectives and actions included in this selected alternative is found in chapter 4 of the final CCP.

Dated: December 3, 2013.
Matt Hogan,
Acting Regional Director, Mountain-Prairie Region, U.S. Fish and Wildlife Service, Mountain-Prairie Region.

[FR Doc. 2014-01013 Filed 1-17-14; 8:45 am]

BILLING CODE 4310-55-P